SECURITIES AND EXCHANGE COMMISSION

Proposed Collection; Comment Request

Upon Written Request, Copies Available From: Securities and Exchange Commission, Office of Filings and Information Services, Washington, DC 20549.

Extension:

Form N-PX; SEC File No. 270-524; OMB Control No. 3235-0582.

Notice is hereby given that pursuant to the Paperwork Reduction Act of 1995 (44 U.S.C. 3501 et seq.) the Securities and Exchange Commission (the “Commission”) is soliciting comments on the collection of information summarized below. The Commission plans to submit this existing collection of information to the Office of Management and Budget (“OMB”) for extension and approval.

The title of the collection of information is “Form N-PX under the Investment Company Act of 1940, Annual Report of Proxy Voting Record.” Rule 30b1-4 under the Investment Company Act of 1940 (“Investment Company Act”) requires every registered management investment company, other than a small business investment company (“Fund”), to file Form N-PX not later than August 31 of each year. Funds use Form N-PX to file annual reports with the Commission containing their complete proxy voting record for the most recent twelve-month period ended June 30. Funds also use Form N-PX to inform the Commission that certain of their portfolios do not hold any equity securities and have no proxy record to file.

The Commission requires the dissemination of this information in order to meet the filing and disclosure requirements of the Investment Company Act and to enable Funds to provide investors with the information necessary to evaluate an investment in the Fund. The information filed with the Commission also permits the verification of compliance with securities law requirements and assures the public availability and dissemination of the information. Requiring a Fund to file its annual reports of Form N-PX has the advantages of making each Fund's proxy voting record available within a relatively short period of time after the proxy voting season, and of providing disclosure of all Funds' proxy voting records over a uniform period of time.

There are approximately 3,700 Funds registered with the Commission, representing 7,900 Fund portfolios, which are required to file one Form N-PX each year. Those 7,900 portfolios are comprised of 5,000 portfolios holding equity securities and 2,900 portfolios holding no equity securities. The staff estimates that filing a response that states that the portfolio does not hold equity securities will require a 10 minute burden per response. The burden for portfolios holding equity securities is estimated to be 14.4 hours per response. The total annual reporting and recordkeeping burden is estimated to be approximately 72,483 hours ((5,000 responses × 14.4 hours per response for equity-holding portfolios) + (2,900 × 10 minutes per response for portfolio holding no equity securities)).

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Office of Information Technology, Securities and Exchange Commission, 100 F Street, NE., Washington, DC 20549.

Dated: November 23, 2005.
Jonathan G. Katz,
Secretary.

[FR Doc. E5-6725 Filed 11-30-05; 8:45 am]

BILLING CODE 8010-01-P